DEPARTMENT OF STATE

[Public Notice: 12384]

Proposal To Extend the Cultural Property Agreement Between the United States and Jordan

ACTION: Public notice.

SUMMARY: Proposal to extend the Memorandum of Understanding between the Government of the United States of America and the Government of the Hashemite Kingdom of Jordan Concerning the Imposition of Import Restrictions on Categories of Archaeological Material of Jordan.

FOR FURTHER INFORMATION CONTACT: Virginia Herrmann, Cultural Heritage Center, Bureau of Educational and Cultural Affairs: (202) 728-0533; culprop@state.gov; include “Jordan” in the subject line.

SUPPLEMENTARY INFORMATION: Pursuant to the authority vested in the Assistant Secretary of State for Educational and Cultural Affairs, and pursuant to 19 U.S.C. 2602(f)(1), an extension of the Memorandum of Understanding between the Government of the United States of America and the Government of the Hashemite Kingdom of Jordan Concerning the Imposition of Import Restrictions on Categories of Archaeological Material of Jordan is hereby proposed.

A copy of the Memorandum of Understanding, the Designated List of categories of material currently restricted from import into the United States, and related information can be found at the Cultural Heritage Center website: http://culturalheritage.state.gov.

Allison R. Davis Lehmann,
Executive Director, Cultural Property Advisory Committee, Bureau of Educational and Cultural Affairs, Department of State.

[FR Doc. 2024-08706 Filed 4-23-24; 8:45 am]

BILLING CODE 4710-05-P